FEDERAL COMMUNICATIONS COMMISSION

Sunshine Act Meeting; Open Commission Meeting; Thursday, June 9, 2011

DATES: June 2, 2011.

The Federal Communications Commission will hold an Open Meeting on the subjects listed below on Thursday, June 9, 2011, which is scheduled to commence at 10:30 a.m. in Room TW-C305, at 445 12th Street, SW., Washington, DC.

The meeting will include a presentation by the working group on the impact of technology on the information needs of communities. The Chief of the Public Safety and Homeland Security Bureau and the Assistant Administrator of FEMA will also give a presentation regarding the Emergency Alert System.

Item No. | Bureau | Subject
1 | Wireline Competition | Title: Electronic Tariff Filing System (ETFS) (WC Docket No. 10-141).
|  | Summary: The Commission will consider a Report and Order that enables all carriers that file tariffs with the Commission to do so electronically, thereby streamlining their filing processes while also making tariff information more readily accessible to other carriers and the public.
2 | International Bureau | Title: The Establishment of Policies and Service Rules for the Broadcasting-Satellite Service at the 17.3-17.7 GHz Frequency Band and at the 17.7-17.8 GHz Frequency Band Internationally, and at the 24.75-25.25 GHz Frequency Band for Fixed Satellite Services Providing Feeder Links to the Broadcasting-Satellite Service and for the Satellite Services Operating Bi-directionally in the 17.3-17.8 GHz Frequency Band (IB Docket No. 06-123). Summary: The Commission will consider a Second Report and Order adopting technical rules to mitigate space path interference between the 17/24 GHz Broadcasting-Satellite Service (BSS) space stations and current and future Direct Broadcasting Service (DBS) space stations that operate in the same frequency band.

Reforms to certain of the Commission's procedural rules took effect June 1, 2011. See http://transition.fcc.gov/Daily_Releases/Daily_Business/2011/db0415/FCC-11-11A1.pdf. Pursuant to these rules, the Sunshine period will now begin at midnight on the day that the Open Meeting agenda (Sunshine notice) is released. Thus, the Sunshine period for the June 9, 2011 Meeting begins at midnight tonight. Note that under the revised rules, ex parte presentations made on the day the Sunshine notice is released relating to a covered proceeding must be filed by the next business day. For further information on revised rules relating to the Sunshine period and ex parte presentations, consult our Web site. See http://www.fcc.gov/exparte.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an e-mail to: fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC Live Web page at http://www.fcc.gov/live.

For a fee this meeting can be viewed live over George Mason University's Capitol Connection. The Capitol Connection also will carry the meeting live via the Internet. To purchase these services call (703) 993-3100 or go to http://www.capitolconnection.gmu.edu

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at fcc@bcpiweb.com.

Federal Communications Commission.
Marlene H. Dortch,
Secretary, Office of the Secretary, Office of Managing Director.

[FR Doc. 2011-14074 Filed 6-3-11; 4:15 pm]

BILLING CODE 6712-01-P